DEPARTMENT OF EDUCATION

Submission for OMB Review; Comment Request

AGENCY: Department of Education.

SUMMARY: The Acting Director, Information Collection Clearance Division, Regulatory Information Management Services, Office of Management invites comments on the submission for OMB review as required by the Paperwork Reduction Act of 1995 (Pub. L. 104-13).

DATES: Interested persons are invited to submit comments on or before September 17, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

Dated: August 13, 2010.
Sheila Carey,
Acting Director, Information Collection Clearance Division, Regulatory Information Management Services, Office of Management.

Office of English Language Acquisitions

Type of Review: New.

Title of Collection: National Professional Development Program: Grantee Performance Report.

OMB #: 1885-New.

Agency Form Number(s): N/A.

Frequency of Responses: Semi-Annually.

Affected Public: Not-for-profit institutions; State, Local, or Tribal Government, State Educational Agencies (SEAs) or Local Educational Agencies (LEAs).

Estimated Number of Annual Responses: 138.

Estimated Annual Burden Hours: 6,900.

Abstract: The purpose is to implement a data collection process for a new semi-annual reporting for Government Performance and Results Act (GPRA) purposes for the National Professional Development Program (NPD). These data are necessary to assess the performance of the National Professional Development in meeting its stated goals and objectives and report to the U.S. Department of Education (ED's) Budget Service. The National Professional Development program provides professional development activities intended to improve instruction for students with limited English proficiency (LEP) and assists education personnel working with such children to meet high professional standards. The National Professional Development program office is submitting this application to request approval to collect information from NPD grantees. The proposed data collection serves two purposes. First, the data are necessary to assess the performance of the National Professional Development program on Government Performance and Results Act (GPRA) measures.

Second, budget information and data on project-specific performance measures are collected from National Professional Development grantees for project-monitoring information.

Requests for copies of the information collection submission for OMB review may be accessed from the RegInfo.gov Web site at http://www.reginfo.gov/public/do/PRAMain or from the Department's Web site at http://edicsweb.ed.gov, by selecting the “Browse Pending Collections” link and by clicking on link number 4335. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title and OMB Control Number of the information collection when making your request.

Comments regarding burden and/or the collection activity requirements should be electronically mailed to ICDocketMgr@ed.gov. Individuals who use a telecommunications device for the deaf (TDD) may call the Federal Information Relay Service (FIRS) at 1-800-877-8339.

[FR Doc. 2010-20442 Filed 8-17-10; 8:45 am]

BILLING CODE 4000-01-P